DEPARTMENT OF AGRICULTURE

Agricultural Marketing Service

[Docket No. DA-98-03]

United States Standards for Dry Whey; Correction

AGENCY: Agricultural Marketing Service, USDA.

ACTION: Notice; correction.

SUMMARY: The Agricultural Marketing Service published in the Federal Register of June 20, 2000 (65 FR 38235) a document (DA-98-03) soliciting comments on a proposal to change the United States Standards for Dry Whey. Text was inadvertently omitted in four paragraphs in the Notice, in one place a word was misspelled, and in another place an incorrect title for an industry organization appeared. This document corrects those errors.

DATES: July 17, 2000.

FOR FURTHER INFORMATION CONTACT: Duane R. Spomer, Chief, Dairy Standardization Branch, AMS/USDA/Dairy Programs, Room 2764-South, P.O. Box 96956, Washington, DC 20090-6456; telephone (202) 720-7473; fax (202) 720-2643; e-mail Duane.Spomer@usda.gov.

SUPPLEMENTARY INFORMATION:

Background

The Department of Agriculture (Department) published a Notice (DA-98-03) in the Federal Register of June 20, 2000 (65 FR 38235). The Notice (issued on June 13, 2000) solicited comments on a proposal to change the United States Standards for Dry Whey. AMS is proposing changes that would lower the bacterial estimate of not more than 50,000 per gram to not more than 30,000 per gram, incorporate maximum scorched particle content as a requirement for U.S. grade, and expand the Test Methods section to allow product evaluation using the latest methods included in Standard Methods for Examination of Dairy Products, in the Official Methods of Analysis of the Association of Official Analytical Chemists, and in standards developed by the International Dairy Federation. These changes are being proposed to strengthen the quality requirements of this Standard to reflect improvements that have occurred in dry whey quality since the Standards were last reviewed. AMS is also proposing editorial changes to provide consistency with other dry milk standards. This Notice Correction is necessary in order to provide complete data on which to solicit comments. The due date for comments on the proposed changes (August 21, 2000) is unchanged.

Correction

This Federal Register Notice makes correction to the Notice published on June 20, 2000 (65 FR 38235). The Department makes the following corrections:

(1) In the third column, under “Proposed by Dairy Programs, Agricultural Marketing Service” (FR page 38235), the paragraph which begins “Concerning the suggestion by the * * * ”, change “American Dairy Products Association” to read “American Dairy Products Institute.”

(2) In the first paragraph of the first column “current standard,” second sentence (FR page 38236), correct the spelling of “Mositure” to read “Moisture”.

(3) In paragraph (a)(1) of the first column, “Requirements for U.S. grade,” (FR page 38236), add the following omitted words in the Current standard section immediately following the last published line in the paragraph (which reads “possess the following flavors to a.”):

“ * * * slight degree: Bitter, fermented, storage, and utensil; and the following to a definite degree: feed and weedy.”

The paragraph should read as follows:

(1) Flavor. (Applies to the reliquefied form). Shall have a normal whey flavor free from undesirable flavors, but may possess the following flavors to a slight degree: Bitter, fermented, storage, and utensil; and the following to a definite degree: feed and weedy.

(4) In paragraph (1) of that same section (Requirements for U.S. grade) (FR page 38236) add the following omitted words in the second column, Proposed section immediately following the last published line in the paragraph (which reads “and the following to a definite degree: feed and”):

“ * * * weedy. See Table 1 of this section.”

The paragraph should read as follows:

(1) Flavor. Reconstituted whey shall have a normal whey flavor free from undesirable flavors, but may possess the following flavors to a slight degree: Bitter, fermented, storage, and utensil; and the following to a definite degree: feed and weedy. See Table 1 of this section.

(5) In the paragraph of that same section (FR page 38236) add the following omitted words in the third column (Discussion section), immediately following the words in the last published line in that paragraph (which reads “and their”):

“intensities. This would allow the reader to quickly identify flavor characteristics and intensities included in this standard.”

The paragraph should read as follows:

We propose to change “reliquefied” to “reconstituted” to more accurately describe the process of converting dry whey to a liquid product. We propose to provide a Table 1 that includes the allowed flavors and their intensities. This would allow the reader to quickly identify flavor characteristics and intensities included in this standard.

(6) Proposed paragraph (b) in the second column under “Test Methods” (FR page 38238), add the following omitted words in the Proposed column immediately following the last published line in the paragraph (which reads “Methods for the Examination of Dairy.”):

“Products,” available from the American Public Health Association, 1015 Fifteenth Street NW, Washington, DC 20005, or by methods published by the International Dairy Federation, available from the International Dairy Federation, 41 Square Vergate, B-1030 Brussels, Belgium.”

The paragraph should read as follows:

(b) All other tests shall be performed by the methods contained in the latest edition of the “Official Methods of Analysis of the Association of Official Analytical Chemists,” published by the Association of Official Analytical Chemists International, 481 North Frederick Avenue, Suite 500, Gaithersburg, MD 20877-2504; by the methods provided in the latest edition of the “Standard Methods for the Examination of Dairy Products,” available from the American Public Health Association, 1015 Fifteenth Street NW, Washington, DC 20005, or by methods published by the International Dairy Federation, available from the International Dairy Federation, 41 Square Vergate, B-1030 Brussels, Belgium.

Authority: (7 U.S.C. 1621-1627).

Dated: July 11, 2000.
Kathleen A. Merrigan,
Administrator, Agricultural Marketing Service.

[FR Doc. 00-17957 Filed 7-14-00; 8:45 am]

BILLING CODE 3410-02-P